DEPARTMENT OF HEALTH AND HUMAN SERVICES

Office of the National Coordinator for Health Information Technology; Nationwide Health Information Network Forum

ACTION: Announcement of Nationwide Health Information Network Forum.

SUMMARY: This notice announces the first forum of the Office of the National Coordinator for Health Information Technology to address the Nationwide Health Information Network functional requirements. The Forum is open to the public and will discuss the requirements needed for a Nationwide Health Information Network that facilitates the accurate, appropriate, timely, and secure exchange of health information.

DATES: June 28, 2006 from 8:30 a.m. to 5 p.m. and June 29, 2006 from 8:30 a.m. to 12:30 p.m.

ADDRESSES: National Institute of Health, Natcher Center, 45 Center Drive, Bethesda, MD 20892.

FOR FURTHER INFORMATION CONTACT: The Office of the National Coordinator for Health Information Technology at 202-690-7151 or the Nationwide Health Information Network Forum home page at http://www.hhs.gov/healthit/NHIN_Forum1.html.

John Loonsk,
Director, Office of Interoperability and Standards, Office of the National Coordinator for Health Information Technology, Department of Health and Human Services.

[FR Doc. E6-8832 Filed 6-6-06; 8:45 am]

BILLING CODE 4150-24-P